SMALL BUSINESS ADMINISTRATION

Reopening of Economic Injury Disaster Loan Declarations for the Gulf Coast Hurricane Disasters of 2005

As a result of Public Law 110-28, enacted on May 25, 2007, the Small Business Administration (SBA) is reopening the filing period for Economic Injury Disaster Loans (EIDL) to pre-existing small businesses located in a parish or county which the President declared a major disaster area because of the hurricanes in the Gulf of Mexico in calendar year 2005.

The following counties in Alabama were declared a major disaster area as a result of Hurricane Dennis:

Baldwin, Escambia, Mobile.

The economic injury number assigned to Alabama Hurricane Dennis is 109040.

The following counties in Florida were declared a major disaster area as a result of Hurricane Dennis:

Bay, Dixie, Escambia, Franklin, Gula, Okaloosa, Santa Rosa, Taylor, Wakulla, Walton.

The economic injury number assigned to Florida Hurricane Dennis is 109050.

The following counties in Alabama were declared a major disaster area as a result of Hurricane Katrina:

Baldwin, Choctaw, Clarke, Greene, Hale, Marengo, Mobile, Pickens, Sumter, Tuscaloosa, Washington.

The economic injury number assigned to Alabama Hurricane Katrina is 109060.

The following parishes in Louisiana were declared a major disaster area as a result of Hurricane Katrina:

Acadia, Ascensión, Assumption, Calcasieu, Cameron, East Baton Rouge, East Feliciana, Iberia, Iberville, Jefferson, Jefferson Davis, Lafayette, Lafourche, Livingston, Orleans, Plaquemines, Pointe Coupee, Saint Bernard, Saint Charles, Saint Helena, Saint James, Saint Martin, Saint Mary, Saint Tammany, St. John the Baptist, Tangipahoa, Terrebonne, Vermilion, Washington, West Baton Rouge, West Feliciana.

The economic injury number assigned to Louisiana Hurricane Katrina is 109070.

The following counties in Mississippi were declared a major disaster area as a result of Hurricane Katrina:

Adams, Amite, Attala, Choctaw, Claiborne, Clarke, Copiah, Covington, Forrest, Franklin, George, Greene, Hancock, Harrison, Hinds, Holmes, Humphreys, Jackson, Jasper, Jefferson, Jefferson Davis, Jones, Kemper, Lamar, Lauderdale, Lawrence, Leake, Lincoln, Lowndes, Madison, Marion, Neshoba, Newton, Noxubee, Oktibbeha, Pearl River, Perry, Pike, Rankin, Scott, Simpson, Smith, Stone, Walthall, Warren, Wayne, Wilkinson, Winston, Yazoo.

The economic injury number assigned to Mississippi Hurricane Katrina is 109080.

The following parishes in Louisiana were declared a major disaster area as a result of Hurricane Rita:

Acadia, Allen, Ascensión, Beauregard, Calcasieu, Cameron, Evangeline, Iberia, Jefferson, Jefferson Davis, Lafayette, Lafourche, Livingston, Plaquemines, Sabine, Saint Landry, Saint Martin, Saint Mary, Saint Tammany, Terrebonne, Vermilion, Vernon, West Baton Rouge.

The economic injury number assigned to Louisiana Hurricane Rita is 109090.

The following counties in Texas were declared a major disaster area as a result of Hurricane Rita:

Angelina, Brazoria, Chambers, Fort Bend, Galveston, Hardin, Harris, Jasper, Jefferson, Liberty, Montgomery, Nacogdoches, Newton, Orange, Polk, Sabine, San Augustine, San Jacinto, Shelby, Trinity, Tyler, Walker.

The economic injury number assigned to Texas Hurricane Rita is 109100.

The following counties in Florida were declared a major disaster area as a result of Hurricane Wilma:

Brevard, Broward, Collier, Glades, Hendry, Indian River, Lee, Martin, Miami-Dade, Monroe, Okeechobee, Palm Beach, Saint Lucie.

The economic injury number assigned to Florida Hurricane Wilma is 109110.

The filing period for pre-existing small businesses to apply to SBA for EIDL assistance is December 31, 2007. The interest rate for eligible small businesses is 4.000 percent.

(Catalog of Federal Domestic Assistance Program No. 590002.)

Dated: June 20, 2007.
Herbert L. Mitchell,
Associate Administrator for Disaster Assistance.

[FR Doc. E7-13103 Filed 7-5-07; 8:45 am]

BILLING CODE 8025-01-P